DEPARTMENT OF HOMELAND SECURITY

Federal Emergency Management Agency

44 CFR Part 67

[Docket ID FEMA-2010-0003; Internal Agency Docket No. FEMA-B-1139]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before October 25, 2010.

ADDRESSES: The corresponding preliminary Flood Insurance Rate Map (FIRM) for the proposed BFEs for each community is available for inspection at the community's map repository. The respective addresses are listed in the table below.

You may submit comments, identified by Docket No. FEMA-B-1139, to Kevin C. Long, Acting Chief, Engineering Management Branch, Federal Insurance and Mitigation Administration, Federal Emergency Management Agency, 500 C Street, SW., Washington, DC 20472, (202) 646-2820, or (e-mail) kevin.long@dhs.gov.

FOR FURTHER INFORMATION CONTACT: Kevin C. Long, Acting Chief, Engineering Management Branch, Federal Insurance and Mitigation Administration, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
New London County, Connecticut (All Jurisdictions)
Eightmile River | Approximately 100 feet upstream of Hamburg Road | None | +56 | Town of Lyme.
| Approximately 700 feet upstream of Hamburg Road | None | +57
Four Mile River | Just upstream of railroad | +9 | +10 | Town of Old Lyme.
| Approximately 1,200 feet downstream of the breached dam | +9 | +10
Little River | At the confluence with the Shetucket River | None | +64 | Town of Lisbon.
| Approximately 2,400 feet upstream of Inland Road | None | +83
Long Island Sound | Approximately 1,200 feet west of the intersection of Atlantic Avenue and Bridge Street | +10 | +12 | Groton Long Point Association.
Susquetonscut Brook | At the confluence with the Yantic River | None | +119 | City of Norwich, Town of Bozrah.
| Approximately 800 feet downstream of Lebanon Road | None | +119
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Norwich
Maps are available for inspection at City Hall, 100 Broadway, Norwich, CT 06360.
Groton Long Point Association
Maps are available for inspection at the Town Hall, 44 Beach Road, Groton Long Point, CT 06340.
Town of Bozrah
Maps are available for inspection at the Town Hall, 1 River Road, Bozrah, CT 06334.
Town of Lisbon
Maps are available for inspection at the Town Hall, 1 Newent Road, Lisbon, CT 06351.
Town of Lyme
Maps are available for inspection at the Lyme Town Hall, 480 Hamburg Road, Old Lyme, CT 06371.
Town of Old Lyme
Maps are available for inspection at the Old Lyme Town Hall, 52 Lyme Street, Old Lyme, CT 06371.
Barnstable County, Massachusetts (All Jurisdictions)
Pleasant Bay | From State Route 28 to approximately 700 feet east of State Route 28 and from 350 feet north of Evelyns Drive to approximately 750 feet north of Evelyns Drive | None | +11 | Town of Brewster.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
Town of Brewster
Maps are available for inspection at the Town Hall, 2198 Main Street, Brewster, MA 02631.
Essex County, Massachusetts (All Jurisdictions)
Argilla Brook (Backwater effects from Merrimack River) | At the confluence with Johnson Creek | +19 | +21 | Town of Groveland.
| Approximately 530 feet upstream of Main Street | +20 | +21
Backwater Effects from Harris Brook | From I-93 to 300 feet west of I-93, and from Hampshire Road to 300 feet north of Hampshire Road at the corporate limits | None | +111 | City of Methuen.
Bartlett Brook | At the confluence with the Merrimack River | +52 | +53 | City of Methuen.
| Approximately 700 feet upstream of State Route 113 | +52 | +53
Boston Brook | Approximately 2,000 feet downstream of Sharpners Pond Road | None | +82 | Town of Middleton.
| Approximately 180 feet downstream of Sharpners Pond Road | None | +84
Castle Neck River (Backwater effects from Atlantic Ocean) | Approximately 1.6 mile upstream of the confluence with Ipswich Bay, at the confluence with Hog Island Channel | None | +9 | Town of Ipswich.
Ipswich River | Approximately 800 feet downstream of I-95 | +40 | +41 | Town of Middleton.
| Approximately 1,250 feet upstream of I-95 | +40 | +41
Jackman Brook (Backwater effects from Parker River) | Just upstream of Parish Road | +17 | +18 | Town of Georgetown.
| Approximately 50 feet upstream of Parish Road | +17 | +18
Johnson Creek (Backwater effects from Merrimack River) | At the confluence with the Merrimack River | +19 | +21 | Town of Groveland.
| Approximately 900 feet upstream of Main Street | +20 | +21
Merrimack River | Approximately 100 feet upstream of Groveland Street | +19 | +20 | Town of Groveland.
| Approximately 0.67 mile upstream of Groveland Street | +19 | +21
Merrimack River | Immediately upstream of I-93 | +51 | +52 | City of Methuen.
| Approximately 1.42 mile upstream of the confluence with Fish Brook | +54 | +56
Nichols Brook (Backwater effects from Ipswich River) | At the confluence with the Ipswich River | +40 | +41 | Town of Middleton, Town of Topsfield.
World End Pond | Approximately 2,500 feet upstream of the confluence with the Ipswich River | +40 | +41
| From approximately 1,000 feet north of the intersection of Hayes Street and Pond Street to 2,800 feet north of Hayes Street and Pond Street, and from the end of Argilla Road to 1,300 feet west of Argilla Road at the corporate limits | None | +116 | City of Methuen.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Methuen
Maps are available for inspection at the Searles Building, Room 306, 41 Pleasant Street, Methuen, MA 01844.
Town of Georgetown
Maps are available for inspection at the Town Hall, 1 Library Street, Georgetown, MA 01833.
Town of Groveland
Maps are available for inspection at the Town Hall, 183 Main Street, Groveland, MA 01834.
Town of Ipswich
Maps are available for inspection at the Town Hall, 25 Green Street, Ipswich, MA 01938.
Town of Middleton
Maps are available for inspection at the Town Hall, 48 South Main Street, Middleton, MA 01949.
Town of Topsfield
Maps are available for inspection at the Town Hall, 8 West Common Street, Topsfield, MA 01983.
Norfolk County, Massachusetts (All Jurisdictions)
Beaver Brook | Approximately 0.83 mile downstream of Plymouth Street | None | +161 | Town of Weymouth.
| Approximately 0.6 mile downstream of Plymouth Street | None | +161
Bubbling Brook | Approximately 1,000 feet upstream of Brook Street | +145 | +144 | Town of Walpole.
| Approximately 800 feet upstream of North Street | None | +228
Backwater from the Farm River | From the Farm River to approximately 1,600 feet upstream of West Street and immediately south of I-93 | None | +120 | City of Quincy.
Germany Brook | Approximately 1,500 feet downstream of Winter Street | None | +169 | Town of Norwood.
| At Winter Street | None | +175
Great Pond Tributary | Just upstream of Randolph Street | None | +161 | Town of Weymouth.
| Approximately 400 feet upstream of Randolph Street | None | +161
Lake Mirimichi | Entire shoreline | None | +161 | Town of Foxborough.
Neponset River | Approximately 1.07 mile downstream of Milton Street | None | +44 | Town of Dedham.
| Approximately 0.75 mile downstream of Milton Street | None | +44
Neponset River | Approximately 400 feet downstream of I-95 | None | +48 | Town of Sharon.
| Just downstream of I-95 | None | +48
New Pond (Backwater effects from Charles River) | Entire shoreline | None | +74 | Town of Needham.
Rabbit Hill Pond | At the Rabbit Hill Pond Dam | None | +177 | Town of Plainville.
| Approximately 750 feet upstream of the Rabbit Hill Pond Dam | None | +178
School Meadow Brook | Approximately 2,000 feet downstream of U.S. Route 1 | None | +187 | Town of Sharon.
| Approximately 350 feet upstream of U.S. Route 1 | None | +188
Stall Brook | Approximately 750 feet west of the intersection of Alder Street and Trotter Drive | None | +246 | Town of Medway.
| Approximately 350 feet east of the intersection of Route 109 and Green Street | None | +246
Walnut Hill Stream | Approximately 400 feet downstream of South Main Street | +8 | +10 | Town of Cohasset.
| Approximately 80 feet downstream of South Main Street | +9 | +10
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Quincy
Maps are available for inspection at City Hall, 1305 Hancock Street, Quincy, MA 02169.
Town of Cohasset
Maps are available for inspection at the Town Hall, 41 Highland Avenue, Cohasset, MA 02025.
Town of Dedham
Maps are available for inspection at the Town Administration Building, 26 Bryant Street, Dedham, MA 02026.
Town of Foxborough
Maps are available for inspection at the Town Hall, 40 South Street, Foxborough, MA 02035.
Town of Medway
Maps are available for inspection at the Town Hall, 155 Village Street, Medway, 02053.
Town of Needham
Maps are available for inspection at the Town Hall, 1471 Highland Avenue, Needham, MA 02492.
Town of Norwood
Maps are available for inspection at the Town Hall, 566 Washington Street, 2nd Floor, Norwood, MA 02062.
Town of Plainville
Maps are available for inspection at the Town Hall, 142 South Street, Plainville, MA 02762.
Town of Sharon
Maps are available for inspection at the Town Office Building, 90 South Main Street, Sharon, MA 02067.
Town of Walpole
Maps are available for inspection at the Town Hall, 135 School Street, Walpole, MA 02081.
Town of Weymouth
Maps are available for inspection at the Town Hall, 75 Middle Street, Weymouth, MA 02189.
Worcester County, Massachusetts (All Jurisdictions)
Leesville Pond | Entire shoreline | None | +486 | City of Worcester.
Ramshorn Pond | Entire shoreline | None | +632 | Town of Sutton.
Singletary Pond | Entire shoreline | None | +559 | Town of Sutton.
Sudbury River | Approximately 1,200 feet downstream of Fruit Street | None | +264 | Town of Westborough.
| Approximately 3,000 feet upstream of Fruit Street | None | +276
Summet Brook (Backwater effects from Big Bummet Brook) | Approximately 2,800 feet upstream of the confluence with Big Bummet Brook, at the corporate limits | None | +363 | Town of Shrewsbury.
| Approximately 0.6 mile upstream of the confluence with Big Bummet Brook | None | +363
Unnamed Tributary (Backwater effects from Cronin Brook) | Approximately 1,100 feet upstream of the confluence with Cronin Brook, at the corporate limits | None | +331 | Town of Millbury.
| Approximately 2,200 feet upstream of the confluence with Cronin Brook | None | +331
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Worcester
Maps are available for inspection at City Hall, 455 Main Street, Room 305, Worcester, MA 01608.
Town of Millbury
Maps are available for inspection at the Town Hall, 127 Elm Street, Millbury, MA 01527.
Town of Shrewsbury
Maps are available for inspection at 100 Maple Avenue, Shrewsbury, MA 01545.
Town of Sutton
Maps are available for inspection at the Town Hall, 4 Uxbridge Road, Sutton, MA 01590.
Town of Westborough
Maps are available for inspection at the Town Hall, 34 West Main Street, Westborough, MA 01581.
Chittenden County, Vermont (All Jurisdictions)
Winooski River | Approximately 0.7 mile upstream of the confluence with Lake Champlain | +103 | +102 | City of Burlington, City of South Burlington, City of Winooski, Town of Colchester.
| Approximately 1,200 feet downstream of Main Street/Colchester Avenue | +117 | +116
Winooski River | Approximately 1,200 feet downstream of I-89 | +166 | +165 | City of South Burlington, Town of Colchester.
| Approximately 1,100 feet upstream of I-89 | +166 | +167
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Burlington
Maps are available for inspection at City Hall, 149 Church Street, Burlington, VT 05401.
City of South Burlington
Maps are available for inspection at the City Hall, 575 Dorset Street, South Burlington, VT 05403.
City of Winooski
Maps are available for inspection at 27 West Allen Street, Winooski, VT 05404.
Town of Colchester
Maps are available for inspection at 781 Blakely Road, Colchester, VT 05446.

(Catalog of Federal Domestic Assistance No. 97.022, “Flood Insurance.”)

Dated: July 19, 2010.
Sandra K. Knight,
Deputy Federal Insurance and Mitigation Administrator, Mitigation, Department of Homeland Security, Federal Emergency Management Agency.

[FR Doc. 2010-18196 Filed 7-23-10; 8:45 am]

BILLING CODE 9110-12-P